DEPARTMENT OF COMMERCE

National Oceanic and Atmospheric Administration

50 CFR Part 660

[Docket No. 991223347-9347-01; I.D. 082800C]

Fisheries off West Coast States and in the Western Pacific; Pacific Coast Groundfish Fishery; Fixed Gear Sablefish Mop-Up

AGENCY: National Marine Fisheries Service (NMFS), National Oceanic and Atmospheric Administration (NOAA), Commerce.

ACTION: Announcement of fixed gear sablefish mop-up fishery; fishing restrictions, request for comments.

SUMMARY: NMFS announces adjustments to the management measures for the Pacific coast groundfish fishery off Washington, Oregon, and California. This action establishes beginning and ending dates and the cumulative period landings limit for the mop-up portion of the limited entry, fixed gear sablefish fishery. These actions are intended to provide for harvest of the remainder of the sablefish available to the 2000 limited entry, fixed gear primary sablefish fishery. This action applies only in waters north of 36° N. lat.

DATES: The fixed gear sablefish mop-up fishery will begin at 1201 hours local time (l.t.), September 5, 2000, and will end at 1200 hours l.t., September 19, 2000, at which time the limited entry daily trip limit fishery resumes. The daily trip limits for the fixed gear sablefish fishery will remain in effect, unless modified, superseded or rescinded, until the effective date of the 2001 annual specifications and management measures for the Pacific coast groundfish fishery, which will be published in the Federal Register. Comments will be accepted until September 22, 2000.

ADDRESSES: Submit comments to William Stelle, Jr., Administrator, Northwest Region (Regional Administrator), NMFS, 7600 Sand Point Way NE., Bldg. 1, Seattle WA 98115-0070; or Rebecca Lent, Administrator, Southwest Region, NMFS, 501 West Ocean Blvd., Suite 4200, Long Beach, CA 90802-4213.

FOR FURTHER INFORMATION CONTACT: Yvonne deReynier, Northwest Region, NMFS, 206-526-6129.

SUPPLEMENTARY INFORMATION: The limited entry, fixed gear sablefish fishery consists of a “primary” fishery, composed of the “regular” fishery described here, during which most of the fixed gear sablefish allocation is taken, and then a “mop-up” fishery, during which the remainder of the amount available to the primary fishery is taken.

The regulations at 50 CFR 660.323(a)(2) provide a season structure for the limited entry, fixed gear primary (regular + mop-up) sablefish fishery. During the regular season, each vessel with a limited entry permit with a sablefish endorsement registered for use with that vessel may land up to the cumulative trip limit for the tier to which the permit is assigned. For the August 6-15, 2000, regular season, participants fished under the following tier limits: Tier 1, 81,000 lb (36,741 kg); Tier 2, 37,000 lb (16,783 kg); Tier 3, 21,000 lb (9,525 kg). Other than the large, tiered cumulative limits, the only trip limit in this fishery was for sablefish smaller than 22 inches (56 cm). The 2000 regular season started at noon on August 6, 2000, and lasted for 9 days to noon on August 15, 2000.

Preseason estimates of the likely total harvest in the regular season fishery were conservative in order to minimize the risk of the fishery exceeding its total allocation. Because of the conservative projections, the regular fishery was not expected to harvest all of the limited entry, fixed gear allocation for north of 36° N. lat. The Northwest Regional Administrator is authorized to announce a mop-up fishery for any allocation in excess of that required for the daily trip limit fishery, if such allocation is large enough, about 3 weeks after the end of the regular season and consisting of one cumulative trip limit for each vessel (50 CFR 660.323(a)(2)(v)). Approximately 3 weeks are needed for the Pacific Fishery Management Council (Council) Groundfish Management Team to compile all of the landings receipts from the regular season and to calculate the amount available for the mop-up season, if any. This action establishes the 2000 mop-up fishery for limited entry, fixed gear permit holders with sablefish endorsements.

The 2000 limited entry nontrawl sablefish allocation is 2,430 mt, of which 2,072 mt is available to the primary (regular + mop-up) season. The best available information on August 23, 2000, indicated that approximately 1,952 mt of sablefish were landed during the regular season. Therefore, 121 mt remains available to the mop-up fishery. The Regional Administrator, after consulting with Council representatives via telephone on August 23, 2000, has determined that the mop-up fishery will occur, and that a cumulative trip limit of 3,000 lb (1,361 kg) (round weight) in a 14-day period (September 5-September 19, 2000) would give limited entry permit holders with sablefish endorsements the opportunity to harvest the remainder of the sablefish available to the primary fishery without exceeding the amount of sablefish set aside for that fishery. To protect juvenile sablefish, the same minimum size limit, 22 inches (56 cm) total length or 15.5 inches (39 cm) for sablefish that are headed, that was in effect during the regular season is in effect during the mop-up season.

Only limited entry permit holders with sablefish endorsements may participate in the mop-up fishery. No vessel may land more than one cumulative limit. There is no limited entry, daily trip limit fishery during the mop-up fishery period. Therefore, holders of limited entry permits without sablefish endorsements may not land any sablefish during the mop-up period. Similarly, once a vessel with a sablefish endorsed limited entry permit has been used to land its 3,000 lb (1,361 kg) cumulative trip limit in the mop-up fishery, it may not be used to land more sablefish until the daily trip limits resume at 1201 hours on September 19, 2000. Also, acquiring additional limited entry permits does not entitle a vessel to more than one cumulative limit.

Following the mop-up fishery, daily trip limits are reimposed until the end of the year, or until modified. The next opportunity for the Council to recommend modifications to the daily trip limit fishery will be at its September 11-15, 2000, meeting. The sablefish daily trip limit for the limited entry fishery north of 36° N. lat. after the mop-up season is 300 lb (136 kg) per day, with no more than 2,400 lb (1,089 kg) cumulative per calendar month. Since the daily trip limits apply to a 24-hour day starting at 0001 hours, but the mop-up fishery begins and ends at 1200 hours, it will be legal for a vessel in the limited entry fishery to land a daily trip limit between 0001 hours and 1200 hours on September 5, 2000, just before the start of the mop-up season, and between 1201 hours and 2400 hours on September 19, 2000, following the mop-up season.

A daily trip limit is the maximum amount that may be taken and retained, possessed, or landed per vessel in 24 consecutive hours, starting at 0001 hours local time. Only one landing of groundfish may be made in that 24-hour period. Daily trip limits may not be accumulated. If a trip lasts more than 1 day, only one daily trip limit is allowed. Daily trip limits were in effect until the closed period before the regular season, and went back into effect after the post-season closure ended on August 16, 2000. A cumulative trip limit is the maximum amount of sablefish that may be taken and retained, possessed, or landed per vessel in a specified period of time, with no limit on the number of landings or trips.

NMFS Actions

NMFS announces the dates of the fixed gear sablefish limited entry mop-up fishery. All other provisions remain in effect. In the 2000 (65 FR 221, January 4, 2000) annual management measures, paragraph IV.B.(2)(b)(i) is revised to read as follows:

IV. * * *

B. * * *

(2) * * *

(b) * * *

(i) Mop-Up Season. The mop-up season will begin at 12 noon l.t. on September 5, 2000, and end at noon on September 19, 2000. The cumulative trip limit for the mop-up fishery is 3,000 lb (1,361 kg). No vessel may be used to take more than one mop-up cumulative trip limit. (Note: The States of Washington, Oregon, and California use a conversion factor of 1.6 to convert dressed sablefish to its round-weight equivalent. Therefore, 3,000 lb (1,361 kg) round weight corresponds to 1,875 lb (851 kg) for dressed sablefish.)

* * * * *

Classification

These actions are authorized by the Pacific Coast Groundfish Fishery Management Plan, which governs the harvest of groundfish in the U.S. exclusive economic zone off the coasts of Washington, Oregon, and California. The determination to take these actions is based on data that only recently became available. Because of the need for immediate action to start the mop-up fishery for sablefish, NMFS has determined that providing an opportunity for prior notice and comment would be impractical and contrary to public interest. Delay of this rule could push the mop-up season into inclement autumn weather. Similarly, the agency believes that the risk of pushing the season into inclement weather constitutes good cause to waive the 30-day delay in effectiveness. These actions are taken under the authority of 50 CFR 660.323(a)(2), and are exempt from review under Executive Order 12866.

Authority: 16 U.S.C. 1801 et seq.

Dated: September 1, 2000.
Richard W. Surdi,
Acting Director, Office of Sustainable Fisheries, National Marine Fisheries Service.

[FR Doc. 00-22960 Filed 9-1-00; 4:34 pm]

BILLING CODE 3510-22-S